DEPARTMENT OF STATE

[Public Notice 8050]

In the Matter of the Designation of Mujahadin-e Khalq, Also Known as MEK, Also Known as Mujahadin-e Khalq Organization, Also Known as MKO, Also Known as Muslim Iranian Students' Society, Also Known as National Council of Resistance, Also Known as NCR, Also Known as Organization of the People's Holy Warriors of Iran, Also Known as the National Liberation Army of Iran, Also Known as NLA, Also Known as People's Mujahadin Organization of Iran, Also Known as PMOI, Also Known as National Council of Resistance of Iran, Also Known as NCRI, Also Known as Sazeman-e Mujahadin-e Khalq-e Iran, as a Specially Designated Global Terrorist Pursuant to Section 1(b) of Executive Order 13224, as Amended

Acting under the authority of Section 1(b) of Executive Order 13224 of September 23, 2001, as amended (“the Order”), I hereby revoke the designation of the entity known as the Mujahadin-e Khalq, and its aliases, as a Specially Designated Global Terrorist pursuant to Section 1(b) of the Order. This action takes effect September 28, 2012.

This notice shall be published in the Federal Register.

Dated: September 21, 2012.
Hillary Rodham Clinton,
Secretary of State.

[FR Doc. 2012-24507 Filed 10-3-12; 8:45 am]

BILLING CODE 4710-10-P